DEPARTMENT OF HEALTH AND HUMAN SERVICES

National Institutes of Health

National Center for Advancing Translational Sciences; Amended Notice of Meeting

Notice is hereby given of a change in the meeting of the National Center for Advancing Translational Sciences Advisory Council, which was published in the Federal Register on June 27, 2019, 84 FR 30740, Pg. 30744.

Amendment to change start time of the closed session from 9 a.m. to 8:30 a.m. and to change the start time of the open session from 11 a.m. to 10 a.m. The meeting is partially Closed to the public.

Dated: August 7, 2019.
Melanie J. Pantoja,
Program Analyst, Office of Federal Advisory Committee Policy.

[FR Doc. 2019-17245 Filed 8-12-19; 8:45 am]

BILLING CODE 4140-01-P